DEPARTMENT OF VETERANS AFFAIRS

[OMB Control No. 2900-0052]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before May 15, 2002.

FOR FURTHER INFORMATION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0052.”

Send comments and recommendations concerning any aspect of the information collection to VA's OMB Desk Officer, OMB Human Resources and Housing Branch, New Executive Office Building, Room 10235, Washington, DC 20503 (202) 395-7316. Please refer to “OMB Control No. 2900-0052” in any correspondence.

SUPPLEMENTARY INFORMATION: Title: Report of Medical Examination for Disability Evaluation, VA Form 21-2545.

OMB Control Number: 2900-0052.

Type of Review: Extension of a currently approved collection.

Abstract: VA Form 21-2545 is used to gather the necessary information from a claimant where the reasonable probability of a valid claim is indicated in any claim for disability compensation or pension, whether as an original claim, a reopened claim or a claim for increase, including claims for benefits set forth under 38 CFR 3.351(d) and (e) and for benefits based on the need of a veteran, surviving spouse, or parent for regular aid and attendance and for benefits based on a child's incapacity of self-support.

An agency may not conduct or sponsor, and a person is not required to respond to a collection of information unless it displays a currently valid OMB control number. The Federal Register Notice with a 60-day comment period soliciting comments on this collection of information was published on January 28, 2002, at pages 3934 and 3935.

Affected Public: Individuals or households.

Estimated Annual Burden: 45,000 hours.

Estimated Average Burden Per Respondent: 15 minutes.

Frequency of Response: On occasion.

Estimated Number of Respondents: 180,000.

Dated: March 28, 2002.
By direction of the Secretary.
Mary Granito,
Management Analyst, Information Management Service.

[FR Doc. 02-8984 Filed 4-12-02; 8:45 am]

BILLING CODE 8320-01-P